DEPARTMENT OF COMMERCE

International Trade Administration

[A-533-840]

Certain Frozen Warmwater Shrimp From India: Preliminary Results of Antidumping Duty Administrative Review; 2021-2022

AGENCY: Enforcement and Compliance, International Trade Administration, Department of Commerce.

SUMMARY: The U.S. Department of Commerce (Commerce) preliminarily determines that certain frozen warmwater shrimp (shrimp) from India is being, or is likely to be, sold in the United States at less than normal value (NV) during the period of review (POR) February 1, 2021, through January 31, 2022.

DATES: Applicable March 3, 2023.

FOR FURTHER INFORMATION CONTACT: Terre Keaton Stefanova or Adam Simons, AD/CVD Operations, Office IX, Enforcement and Compliance, International Trade Administration, U.S. Department of Commerce, 1401 Constitution Avenue NW, Washington, DC 20230; telephone: (202) 482-1280 or (202) 482-6172, respectively.

Background

On April 12, 2022, based on a timely request for review, in accordance with 19 CFR 351.221(c)(1)(i), Commerce initiated an administrative review of the antidumping duty order on shrimp from India.¹ This review covers 187 producers and/or exporters of the subject merchandise. Commerce selected two mandatory respondents for individual examination: Megaa Moda Pvt. Ltd. (Megaa Moda) and NK Marine Exports LLP (NK Marine). For a complete description of the events that followed the initiation of this review, see the Preliminary Decision Memorandum.²

¹ See Initiation of Antidumping and Countervailing Duty Administrative Reviews, 87 FR 21619 (April 12, 2022).

² See Memorandum, “Decision Memorandum for the Preliminary Results of the 2021-2022 Administrative Review of the Antidumping Duty Order on Certain Frozen Warmwater Shrimp from India,” dated concurrently with, and hereby adopted by, this notice (Preliminary Decision Memorandum).

Scope of the Order

The merchandise subject to the order is certain frozen warmwater shrimp. The product is currently classified under the following Harmonized Tariff Schedule of the United States (HTSUS) item numbers: 0306.17.00.04, 0306.17.00.05, 0306.17.00.07, 0306.17.00.08, 0306.17.00.10, 0306.17.00.11, 0306.17.00.13, 0306.17.00.14, 0306.17.00.16, 0306.17.00.17, 0306.17.00.19, 0306.17.00.20, 0306.17.00.22, 0306.17.00.23, 0306.17.00.25, 0306.17.00.26, 0306.17.00.28, 0306.17.00.29, 0306.17.00.41, 0306.17.00.42, 1605.21.10.30, and 1605.29.10.10. Although the HTSUS numbers are provided for convenience and for customs purposes, the written product description remains dispositive.³

³ For a complete description of the scope of the order, see the Preliminary Decision Memorandum.

Methodology

Commerce is conducting this review in accordance with sections 751(a)(1)(B) and (2) of the Tariff Act of 1930, as amended (the Act). Export price is calculated in accordance with section 772 of the Act. NV is calculated in accordance with section 773 of the Act.

For a full description of the methodology underlying our conclusions, see the Preliminary Decision Memorandum. A list of the topics discussed in the Preliminary Decision Memorandum is attached as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Results of Review

As a result of this review, we preliminarily determine that the following weighted-average dumping margins exist for the respondents for the period February 1, 2021, through January 31, 2022:

⁴ The exporters or producers not selected for individual review are listed in Appendix II.

Exporter/producer | Weighted- average dumping margin (percent)
Megaa Moda Pvt. Ltd | 7.92
NK Marine Exports LLP | 1.43
Companies Not Selected for Individual Review ⁴ | 3.76

Review-Specific Average Rate for Companies Not Selected for Individual Review

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually examined, excluding any margins that are zero or de minimis margins, and any margins determined entirely {on the basis of facts available}.” For these preliminary results, we have preliminarily calculated a weighted-average dumping margin for these companies using the calculated rates of the mandatory respondents, Megaa Moda and NK Marine, which are not zero or de minimis, or determined entirely on the basis of facts available.

Disclosure and Public Comment

Commerce intends to disclose the calculations performed in connection with these preliminary results to interested parties within five days after the date of publication of this notice.⁵ Interested parties may submit case briefs to Commerce no later than 30 days after the date of publication of this notice.⁶ Rebuttal briefs, limited to issues raised in the case briefs, may be filed no later than seven days after the time limit for filing case briefs.⁷ Parties who submit case briefs or rebuttal briefs in this proceeding are encouraged to submit with each argument: (1) a statement of the issue; (2) a brief summary of the argument; and (3) a table of authorities.⁸ Case and rebuttal briefs should be filed using ACCESS.⁹ An electronically-filed document must be received successfully in its entirety by ACCESS by 5:00 p.m. Eastern Time on the established deadline. Note that Commerce has temporarily modified certain of its requirements for serving documents containing business proprietary information, until further notice.¹⁰

⁵ See 19 CFR 351.224(b).

⁶ See 19 CFR 351.309(c).

⁷ See 19 CFR 351.309(d).

⁸ See 19 CFR 351.309(c)(2) and (d)(2).

⁹ See 19 CFR 351.303.

¹⁰ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, U.S. Department of Commerce, filed electronically via ACCESS within 30 days after the date of publication of this notice.¹¹ Hearing requests should contain: (1) the party's name, address, and telephone number; (2) the number of participants; and (3) a list of issues to be discussed. Oral presentations at the hearing will be limited to issues raised in the briefs. If a request for a hearing is made, parties will be notified of the time and date for the hearing.¹²

¹¹ See 19 CFR 351.310(c).

¹² See 19 CFR 351.310(d).

Commerce intends to issue the final results of this administrative review, including the results of its analysis of issues raised in any written briefs, not later than 120 days after the date of publication of this notice in the Federal Register, unless otherwise extended.¹³

¹³ See section 751(a)(3)(A) of the Act.

Assessment Rates

Upon completion of the administrative review, Commerce shall determine, and U.S. Customs and Border Protection (CBP) shall assess, antidumping duties on all appropriate entries covered by this review.¹⁴ Pursuant to 19 CFR 351.212(b)(1), because both respondents reported the entered value for all of their U.S. sales, we calculated importer-specific ad valorem duty assessment rates based on the ratio of the total amount of antidumping duties calculated for the examined sales to the total entered value of the sales for which entered value was reported. Where either the respondent's weighted-average dumping margin is zero or de minimis within the meaning of 19 CFR 351.106(c), or an importer-specific rate is zero or de minimis, we will instruct CBP to liquidate the appropriate entries without regard to antidumping duties.

¹⁴ See 19 CFR 351.212(b)(1).

Commerce's “automatic assessment” will apply to entries of subject merchandise during the POR produced by Megaa Moda or NK Marine for which these companies did not know that the merchandise they sold to the intermediary (e.g., a reseller, trading company, or exporter) was destined for the United States. In such instances, we will instruct CBP to liquidate unreviewed entries at the all-others rate if there is no rate for the intermediate company(ies) involved in the transaction.¹⁵

¹⁵ For a full discussion of this practice, see Antidumping and Countervailing Duty Proceedings: Assessment of Antidumping Duties, 68 FR 23954 (May 6, 2003).

For the companies which were not selected for individual review, we will assign an assessment rate based on the review-specific average rate, calculated as noted in the “Preliminary Results of Review” section, above. This rate is an average of the cash deposit rates calculated for Megaa Moda and NK Marine. The final results of this review shall be the basis for the assessment of antidumping duties on entries of merchandise covered by the final results of this review and for future deposits of estimated duties, where applicable.¹⁶

¹⁶ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for each specific company listed above will be that established in the final results of this review, except if the rate is less than 0.50 percent and, therefore, de minimis within the meaning of 19 CFR 351.106(c)(1), in which case the cash deposit rate will be zero; (2) for previously reviewed or investigated companies not covered by this review, the cash deposit will continue to be the company-specific rate published for the most recently completed segment of this proceeding in which the company participated; (3) if the exporter is not a firm covered in this review, or the less-than-fair-value (LTFV) investigation, but the manufacturer is, the cash deposit rate will be the rate established for the most recent segment for the manufacturer of the merchandise; and (4) the cash deposit rate for all other manufacturers or exporters will continue to be 10.17 percent, the all-others rate established in the LTFV investigation.¹⁷ These deposit requirements, when imposed, shall remain in effect until further notice.

¹⁷ See Notice of Amended Final Determination of Sale at Less Than Fair Value and Antidumping Duty Order: Certain Frozen Warmwater Shrimp from India, 70 FR 5147 (February 1, 2005).

Notification to Importers

This notice serves as a preliminary reminder to importers of their responsibility under 19 CFR 351.402(f) to file a certificate regarding the reimbursement of antidumping duties prior to liquidation of the relevant entries during this review period. Failure to comply with this requirement could result in the Commerce's presumption that reimbursement of antidumping duties occurred and the subsequent assessment of double antidumping duties.

Notification to Interested Parties

We are issuing and publishing these results in accordance with sections 751(a)(1) and 777(i)(1) of the Act.

Dated: February 27, 2023.
Ryan Majerus,
Deputy Assistant Secretary for Policy and Negotiations.

Appendix I

List of Topics Discussed in the Preliminary Decision Memorandum

I. Summary

II. Background

III. Scope of the Order

IV. Discussion of the Methodology

V. Currency Conversion

VI. Recommendation

Appendix II

Review-Specific Average Rate Applicable to Companies Not Selected for Individual Review

1. Abad Fisheries

2. Accelerated Freeze Drying Co.

3. ADF Foods Ltd.

4. Albys Agro Private Limited

5. Al-Hassan Overseas Private Limited

6. Allana Frozen Foods Pvt. Ltd.

7. Allanasons Ltd.

8. Alps Ice & Cold Storage Private Limited

9. Amaravathi Aqua Exports Private Limited

10. Amarsagar Seafoods Private Limited

11. Amulya Seafoods

12. Anantha Seafoods Private Limited

13. Anjaneya Seafoods

14. Asvini Agro Exports

15. Ayshwarya Seafood Private Limited

16. B R Traders

17. Baby Marine Eastern Exports

18. Baby Marine Exports

19. Baby Marine International

20. Baby Marine Sarass

21. Baby Marine Ventures

22. Balasore Marine Exports Private Limited

23. BB Estates & Exports Private Limited

24. Bell Exim Private Limited

25. Bhatsons Aquatic Products

26. Bhavani Seafoods

27. Bhimraj Exports Private Limited

28. Bijaya Marine Products

29. Blue-Fin Frozen Foods Pvt. Ltd.

30. Blue Water Foods & Exports P. Ltd.

31. Blue Park Seafoods Pvt. Ltd.

32. Britto Seafood Exports Pvt Ltd.

33. Calcutta Seafoods Pvt. Ltd./Bay Seafood Pvt. Ltd./Elque & Co.

34. Canaan Marine Products

35. Capithan Exporting Co.

36. Cargomar Private Limited

37. Chakri Fisheries Private Limited

38. Chemmeens (Regd)

39. Cherukattu Industries (Marine Div)

40. Cochin Frozen Food Exports Pvt. Ltd.

41. Cofoods Processors Private Limited

42. Continental Fisheries India Private Limited

43. Coreline Exports

44. Corlim Marine Exports Pvt. Ltd.

45. CPF (India) Private Limited

46. Crystal Sea Foods Private Limited

47. Danica Aqua Exports Private Limited

48. Datla Sea Foods

49. Deepak Nexgen Foods and Feeds Private Limited

50. Delsea Exports Pvt. Ltd.

51. Devi Sea Foods Limited ¹⁸

¹⁸ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we initiated this administrative review with respect to Devi only for shrimp produced in India where Devi acted as either the manufacturer or exporter (but not both).

52. Dwaraka Sea Foods

53. Empire Industries Limited

54. Entel Food Products Private Limited

55. Esmario Export Enterprises

56. Everblue Sea Foods Private Limited

57. Febin Marine Foods Private Limited

58. Fedora Sea Foods Private Limited

59. Food Products Pvt., Ltd./Parayil Food Products Pvt., Ltd.

60. Fouress Food Products Private Limited

61. Frontline Exports Pvt. Ltd.

62. G A Randerian Ltd.

63. Gadre Marine Exports (AKA Gadre Marine Exports Pvt. Ltd.)

64. Galaxy Maritech Exports P. Ltd.

65. Geo Aquatic Products (P) Ltd.

66. Grandtrust Overseas (P) Ltd.

67. GVR Exports Pvt. Ltd.

68. Hari Marine Private Limited

69. Haripriya Marine Export Pvt. Ltd.

70. HIC ABF Special Foods Pvt. Ltd.

71. Highland Agro

72. Hiravati Exports Pvt. Ltd.

73. Hiravati International Pvt. Ltd.

74. Hiravati Marine Products Private Limited

75. HMG Industries Ltd.

76. HN Indigos Private Limited

77. Hyson Exports Private Limited

78. Hyson Logistics and Marine Exports Private Limited

79. Indian Aquatic Products

80. Indo Aquatics

81. Indo Fisheries

82. Indo French Shellfish Company Private Limited

83. International Freezefish Exports

84. Jinny Marine Traders

85. Jude Foods India Private Limited

86. K.V. Marine Exports

87. Karunya Marine Exports Private Limited

88. Kaushalya Aqua Marine Product Exports Pvt. Ltd.

89. Kay Kay Exports

90. Kings Infra Ventures Limited

91. Kings Marine Products

92. Koluthara Exports Ltd.

93. Libran Foods

94. Lito Marine Exports Private Limited

95. Mangala Sea Products

96. Marine Harvest India

97. Milsha Agro Exports Pvt. Ltd.

98. Milsha Sea Products

99. Minaxi Fisheries Private Limited

100. Mindhola Foods LLP

101. Minh Phu Group

102. MMC Exports Limited

103. MTR Foods

104. Naik Frozen Foods Private Limited

105. Naik Oceanic Exports Pvt. Ltd./Rafiq Naik Exports Pvt. Ltd

106. Naik Seafoods Ltd.

107. NAS Fisheries Pvt. Ltd

108. Nine Up Frozen Foods

109. Nutrient Marine Foods Limited

110. Oceanic Edibles International Limited

111. Paragon Sea Foods Pvt. Ltd.

112. Paramount Seafoods

113. Pesca Marine Products Pvt., Ltd.

114. Pijikay International Exports P Ltd.

115. Poyilakada Fisheries Private Limited

116. Pravesh Seafood Private Limited

117. Premier Exports International

118. Premier Marine Foods

119. Premier Seafoods Exim (P) Ltd.

120. Protech Organo Foods Private Limited

121. Raju Exports

122. Rajyalakshmi Marine Exports

123. Ram's Assorted Cold Storage Limited

124. Raunaq Ice & Cold Storage

125. RDR Exports

126. RF Exports Private Limited

127. Rising Tide

128. Riyarchita Agro Farming Private Limited

129. Rupsha Fish Private Limited

130. R V R Marine Products Private Limited

131. S Chanchala Combines Private Limited

132. Safera Food International

133. Sagar Samrat Seafoods

134. Sahada Exports

135. Sai Aquatechs Private Limited

136. Salet Seafoods Pvt. Ltd.

137. Samaki Exports Private Limited

138. Sanchita Marine Products Private Limited

139. Sasoondock Matsyodyog Sahakari Society Ltd.

140. Sea Doris Marine Exports

141. Seagold Overseas Pvt. Ltd.

142. Seasaga Enterprises Private Limited/Seasaga Group

143. Shimpo Exports Private Limited

144. Shimpo Seafoods Private Limited

145. Shiva Frozen Food Exp. Pvt. Ltd.

146. Shroff Processed Food & Cold Storage P Ltd.

147. Sigma Seafoods

148. Silver Seafood

149. Sita Marine Exports

150. Sonia Fisheries

151. Sreeragam Exports Private Limited

152. Sri Sakkthi Cold Storage

153. Srikanth International

154. SSF Ltd.

155. Star Agro Marine Exports Private Limited

156. Star Organic Foods Private Limited

157. Stellar Marine Foods Private Limited

158. Sterling Foods

159. Sun Agro Exim

160. Supran Exim Private Limited

161. Suvarna Rekha Exports Private Limited

162. Suvarna Rekha Marines P Ltd.

163. TBR Exports Private Limited

164. Teekay Marines Private Limited

165. Tej Aqua Feeds Private Limited

166. The Waterbase Limited

167. Torry Harris Seafoods Ltd.

168. Triveni Fisheries P Ltd.

169. U & Company Marine Exports

170. Ulka Sea Foods Private Limited

171. Uniloids Biosciences Private Limited

172. Uniroyal Marine Exports Ltd.

173. Unitriveni Overseas Private Limited

174. Vaisakhi Bio-Marine Private Limited

175. Varma Marine

176. Vasai Frozen Food Co.

177. Veronica Marine Exports Private Limited

178. Victoria Marine & Agro Exports Ltd.

179. Vinner Marine

180. Vitality Aquaculture Pvt. Ltd.

181. VKM Foods Private Limited

182. VRC Marine Foods LLP

183. West Coast Fine Foods (India) Private Limited

184. West Coast Frozen Foods Private Limited

185. Zeal Aqua Limited

[FR Doc. 2023-04437 Filed 3-2-23; 8:45 am]

BILLING CODE 3510-DS-P